DEPARTMENT OF ENERGY

Federal Energy Regulatory Commission

[Docket No. ER01-318-001, et al.]

Consumers Energy Company, et al.; Electric Rate and Corporate Regulation Filings

January 18, 2001.

Take notice that the following filings have been made with the Commission:

1. Consumers Energy Company

[Docket No. ER01-318-001]

Take notice that on January 12, 2001, Consumers Energy Company (Consumers), tendered for filing the following tariff sheets as part of its FERC Electric Tariff No. 6 in compliance with the December 29, 2000 order issued in this proceeding:

Sub Original Sheet Nos. 117, 122, 123, 132 through 137, 141, 142, 144, 145, 146 and 157 and Original Sheet Nos. 117A, 137A, 142A and 157A

The sheets are to have an effective date of November 1, 2000.

Copies of the filed agreement were served upon the Michigan Public Service Commission and those on the official service list in this proceeding.

Comment date: February 2, 2001, in accordance with Standard Paragraph E at the end of this notice.

2. California Independent System Operator Corporation

[Docket Nos. ER01-313-000; ER01-819-000; ER01-836-000; ER01-836-001]

Take notice that on January 12, 2001, the California Independent System Operator Corporation (ISO), tendered a supplement (Supplement) to Amendment No. 35 to the ISO Tariff. The ISO states that it tendered the Supplement to harmonize the Tariff sheets submitted in Amendment No. 35 with the Tariff sheets submitted in previous filings, and to correct a typographical error. The ISO proposes no substantive Tariff changes in the Supplement.

The ISO states that this filing has been served upon all parties in the above-referenced proceedings. In addition, the ISO has served this filing upon the Public Utilities Commission of the State of California, the California Energy Commission, the California Electricity Oversight Board, the owners of RMR Units, and all parties with effective Scheduling Coordinator Service Agreements under the ISO Tariff.

Comment date: February 2, 2001, in accordance with Standard Paragraph E at the end of this notice.

3. Consumers Energy Company CMS Marketing, Services and Trading Company

[Docket No. ER01-171-001]

Take notice that on January 12, 2001, Consumers Energy Company (CECo) and CMS Marketing, Services and Trading Company (CMS MST), tendered for filing an amendment to its October 19, 2000, application requesting modification of Code of Conduct, modification of CECo's market-based rate power sales tariff, FERC Electric Tariff, First Revised Volume No. 8, and acceptance of a service agreement.

Comment date: February 2, 2001, in accordance with Standard Paragraph E at the end of this notice.

4. Alliant Energy Corporate Services, Inc.

[Docket No. ER01-937-000]

Take notice that on January 12, 2001, Alliant Energy Corporate Services Inc. (ALTM), tendered for filing a signed Service Agreement under ALTM's Market Based Wholesale Power Sales Tariff (MR-1) between itself and Dynegy Power Marketing, Inc., (DYPM).

ALTM respectfully requests a waiver of the Commission's notice requirements, and an effective date of October 24, 2000.

Comment date: February 2, 2001, in accordance with Standard Paragraph E at the end of this notice.

5. Arizona Public Service Company

[Docket No. ER01-938-000]

Take notice that on January 12, 2001, Arizona Public Service Company (APS), tendered for filing notice that effective midnight February 8, 2001, APS FERC Rate Schedule No. 97, effective date March 12, 1983 and filed with the Federal Energy Regulatory Commission by Arizona Public Service Company is to be canceled.

Notice of the proposed cancellation has been served upon the Arizona Electric Power Cooperative, Inc., and The Arizona Corporation Commission.

Comment date: February 2, 2001, in accordance with Standard Paragraph E at the end of this notice.

6. Illinois Power Company

[Docket No. ER01-939-000]

Take notice that on January 12, 2001, Illinois Power Company (Illinois Power), 500 South 27th Street, Decatur, Illinois 65251-2200, tendered for filing with the Commission a Service Agreement for Firm Long-Term Point-To-Point Transmission Service with Illinois Power and entered into pursuant to Illinois Power's Open Access Transmission Tariff.

Illinois Power requests an effective date of January 1, 2001 for the Agreement and accordingly seeks a waiver of the Commission's notice requirement.

Comment date: February 2, 2001, in accordance with Standard Paragraph E at the end of this notice.

7. Puget Sound Energy, Inc.

[Docket No. ER01-940-000]

Take notice that on January 12, 2001, Puget Sound Energy, Inc., as Transmission Provider, tendered for filing a Service Agreement for Long-Term Firm Point-To-Point Transmission Service with the United States of America Department of Energy acting by and through the Bonneville Power Administration (Bonneville), as Transmission Customer.

A copy of the filing was served upon Bonneville.

Comment date: February 2, 2001, in accordance with Standard Paragraph E at the end of this notice.

8. The Dayton Power and Light Company

[Docket No. ER01-941-000]

Take notice that on January 12, 2001, The Dayton Power and Light Company (Dayton), tendered for filing a service agreement establishing PSEG Energy Resources & Trade LLC as a customer under the terms of Dayton's Open Access Transmission Tariff.

Dayton requests an effective date of one day subsequent to this filing for the service agreements. Accordingly, Dayton requests waiver of the Commission's notice requirements.

Copies of this filing were served upon PSEG Energy Resources & Trade LLC and the Public Utilities Commission of Ohio.

Comment date: February 2, 2001, in accordance with Standard Paragraph E at the end of this notice.

9. Heard County Power, L.L.C.

[Docket No. ER01-943-000]

Take notice that on January 12, 2001, Heard County Power, L.L.C. (Heard County), tendered for filing pursuant to Rule 205, 18 CFR 385.205, a petition for waivers and blanket approvals under various regulations of the Commission and for an order accepting its FERC Electric Tariff No. 1, effective February 15, 2001.

Heard County intends to sell electric power at wholesale at rates, terms, and conditions to be mutually agreed to with the purchasing party. Heard County's tariff provides for the sale of electric energy and capacity at agreed prices.

Comment date: February 2, 2001, in accordance with Standard Paragraph E at the end of this notice.

10. Northeast Utilities Service Company

[Docket No. ER01-945-000]

Take notice that on January 12, 2001, Northeast Utilities Service Company (NUSCO), on behalf of The Connecticut Light and Power Company, Western Massachusetts Electric Company, Holyoke Water Power Company, Holyoke Power and Electric Company, and Public Service Company of New Hampshire, submitted pursuant to Section 205 of the Federal Power Act and Part 35 of the Commission's Regulations, rate schedule changes for sales of electricity to Unitil Power Corp.

NUSCO states that a copy of this filing has been mailed to Unitil Power Corp. and the Public Utilities Commission of New Hampshire.

NUSCO requests that the rate schedule changes become effective on January 15, 2001.

Comment date: February 2, 2001, in accordance with Standard Paragraph E at the end of this notice.

11. Doyle I, L.L.C.

[Docket No. ER01-946-000]

Take notice that on January 12, 2001, pursuant to Section 205 of the Federal Power Act, 16 U.S.C. § 824d (1994), and Sections 35.1(c), 35.13, 385.203, and 385.205 of the Commission's Regulations, 18 CFR 35.1(c), 35.13, 385.203, 385.205, Doyle I, L.L.C. (Doyle), tendered for filing a revised rate consistent with its FERC Electric Rate Schedule No. 1 (Rate Schedule), which is the Power Purchase and Sale Agreement, as amended (PPSA) executed by Doyle and Oglethorpe Power Corporation (an electric membership corporation) (Oglethorpe) on May 25, 1999.

Copies of the filing were served upon Oglethorpe and on the Georgia Public Service Commission.

Comment date: February 2, 2001, in accordance with Standard Paragraph E at the end of this notice.

12. Exelon Generation Company L.L.C.

[Docket No. ER01-948-000]

Take notice that on January 12, 2001, Exelon Generation Company, L.L.C. (Exelon), tendered for filing power sales agreements under which Exelon will sell power.

Exelon states that a copy of the filing was served on each of the other parties to the agreements.

Comment date: February 2, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-2294 Filed 1-24-01; 8:45 am]

BILLING CODE 6717-01-P